DEPARTMENT OF ENERGY

Federal Energy Regulatory Commission

[Docket No. RP00-372-001]

ANR Pipeline Company; Notice of Compliance Filing

October 25, 2000.

Take notice that on October 19, 2000, ANR Pipeline Company (ANR) tendered for filing in compliance with the Commission's order dated September 29, 2000 at Docket No. RP00-372-000, a revised allocation of interest costs.

On June 30, 2000 ANR Pipeline Company (ANR) filed an Interest Recovery Plan to direct bill certain shippers for interest charges paid by ANR to Great Lakes Gas Transmission L.P. (Great Lakes). The order required ANR to allocate, but not direct bill, costs to all discount shippers, unless such discount shippers are subject to additional charges.

Any person desiring to protest said filing should file a protest with the Federal Energy Regulatory Commission, 888 First Street, NE., Washington, DC 20426, in accordance with Section 385.211 of the Commission's Rules and Regulations. All such protests must be filed on or before November 1, 2000. Protests will be considered by the Commission in determining the appropriate action to be taken, but will not be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Beginning November 1, 2000, comments and protests may be filed electronically via the internet in lieu of paper. See 18 CFR 385.2001(a)(1)(iii) and the instructions on the Commission's web site at http://www.ferc.fed.us/efi/doorbell.htm.

David P. Boergers,
Secretary.

[FR Doc. 00-27854 Filed 10-30-00; 8:45 am]

BILLING CODE 6717-01-M